EXPORT-IMPORT BANK

Sunshine Act Meeting

ACTION: Notice of an Open Meeting of the Board of Directors of the Export-Import Bank of the United States.

TIME AND PLACE: Thursday, December 11, 2014 at 3:00 p.m. The meeting will be held at Ex-Im Bank in Room 1126, 811 Vermont Avenue NW., Washington, DC 20571.

OPEN AGENDA ITEMS: Item No. 1 Ex-Im Bank Advisory Committee for 2015 (New Members)

PUBLIC PARTICIPATION: The meeting will be open to public observation for Item No. 1 only.

FURTHER INFORMATION: Members of the public who wish to attend the meeting should call Joyce Stone, Office of the Secretary, 811 Vermont Avenue NW., Washington, DC 20571 (202) 565-3336 by close of business Tuesday, December 9, 2014.

Lloyd Ellis,
Program Specialist, Office of the General Counsel.

[FR Doc. 2014-28662 Filed 12-3-14; 11:15 am]

BILLING CODE 6690-01-P